DEPARTMENT OF ENERGY

Federal Energy Regulatory Commission

[Project No. 13753-002, 13771-002, 13763-002, 13766-002, 13767-002]

FFP Missouri 16, LLC; FFP Missouri 15, LLC; Solia 8 Hydroelectric, LLC; FFP Missouri 13, LLC; Solia 5 Hydroelectric, LLC; Solia 4 Hydroelectric, LLC: Notice of Application Accepted for Filing and Soliciting Motions To Intervene and Protests

Take notice that the following hydroelectric applications have been filed with the Commission and are available for public inspection.

a. Type of Application: Original Major License.

b. Project Nos.: 13753-002; 13762-002; 13771-002; 13763-002; 13766-002; 13767-002.

c. Date filed: February 27, 2014.

d. Applicant: FFP Missouri 16, LLC; FFP Missouri 15, LLC; Solia 8 Hydroelectric, LLC; FFP Missouri 13, LLC; Solia 5 Hydroelectric, LLC; Solia 4 Hydroelectric, LLC. All applicants are subsidiaries of Free Flow Power Corporation.

e. Name of Projects: Opekiska Lock and Dam Hydroelectric Project; Morgantown Lock and Dam Hydroelectric Project; Point Marion Lock and Dam Hydroelectric Project; Grays Landing Lock and Dam Hydroelectric Project; Maxwell Lock and Dam Hydroelectric Project; and Monongahela Lock and Dam Number Four Hydroelectric Project.

f. Location: The proposed projects would be located at U.S. Army Corps of Engineers' (Corps) dams on the Monongahela River in Monongalia County, West Virginia and Fayette, Greene, and Washington counties, Pennsylvania (see table below for specific locations). The projects would occupy 39.75 acres of federal land managed by the Corps.

Project No. | Projects | County and state | City/town | Federal land used by project ¹ (acres)
P-13753 | Opekiska Lock and Dam | Monongalia, WV | Between Fairmont and Morgantown | 10.1
P-13762 | Morgantown Lock and Dam | Monongalia, WV | Morgantown | 0.99
P-13771 | Point Marion Lock and Dam | Fayette, PA | Point Marion | 1.44
P-13763 | Grays Landing Lock and Dam | Greene, PA | Near Masontown | 15.5
P-13766 | Maxwell Lock and Dam | Washington, PA | Downstream of Fredericktown | 10.4
P-13767 | Monongahela Lock and Dam Number Four | Washington, PA | Charleroi | 1.32
¹ The federal lands are managed by the Corps.

g. Filed Pursuant to: Federal Power Act 16 U.S.C. 791(a)—825(r).

h. Applicant Contact: Thomas Feldman, Vice President of Project Development, Free Flow Power Corporation, 239 Causeway Street, Suite 300, Boston, MA 02114; or at (978) 283-2822.

Ramya Swaminathan, Chief Operating Officer, Free Flow Power Corporation, 239 Causeway Street, Suite 300, Boston, MA 02114; or at (978) 283-2822.

Daniel Lissner, General Counsel, Free Flow Power Corporation, 239 Causeway Street, Suite 300, Boston, MA 02114; or at (978) 283-2822.

i. FERC Contact: Nicholas Ettema, (202) 502-6565 or nicholas.ettema@ferc.gov.

j. Deadline for filing motions to intervene and protests and requests for cooperating agency status: 60 days from the issuance date of this notice.

The Commission strongly encourages electronic filing. Please file motions to intervene and protests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include the applicable project name(s) and docket number(s) (e.g., Opekiska Lock and Dam P-13753-002).

The Commission's Rules of Practice and Procedures require all intervenors filing documents with the Commission to serve a copy of that document on each person on the official service list for the project. Further, if an intervenor files comments or documents with the Commission relating to the merits of an issue that may affect the responsibilities of a particular resource agency, they must also serve a copy of the document on that resource agency.

k. These applications have been accepted for filing, but are not ready for environmental analysis at this time.

l. The proposed Opekiska Lock and Dam Hydroelectric Project would be the most upstream project at river mile (RM) 115.4 and would consist of the following new facilities: (1) A 180-foot-long, 95-foot-wide intake channel directing flow to a 30-foot-long, 50-foot-high, 70-foot-wide intake structure with 3-inch bar spacing trashracks; (2) a 120-foot-long, 60-foot-high, 70-foot-wide reinforced concrete powerhouse on the west bank of the river; (3) two turbine-generator units with a combined capacity of 6.0 megawatts (MW); (4) a 280-foot-long, 64-foot-wide tailrace; (5) a 40-foot-long by 40-foot-wide substation; (6) a 3,511-foot-long, 12.5-kilovolt (kV), overhead transmission line to connect the project substation to an existing distribution line; and (7) appurtenant facilities. The average annual generation would be 25,300 megawatt-hours (MWh).

The proposed Morgantown Lock and Dam Hydroelectric Project would be located at RM 102.0 and consist of the following new facilities: (1) A 280-foot-long, 80-foot-wide intake channel directing flow to a 30-foot-long, 50-foot-high, 70-foot-wide intake structure with 3-inch bar spacing trashracks; (2) a 120-foot-long, 60-foot-high, 70-foot-wide reinforced concrete powerhouse on the east bank of the river; (3) two turbine-generator units with a combined capacity of 5.0 MW; (4) a 200-foot-long, 70-foot-wide tailrace; (5) a 40-foot-long by 40-foot-wide substation; (6) a 2,600-foot-long, 12.5-kV, overhead transmission line to connect the project substation to an existing distribution line; and (7) appurtenant facilities. The average annual generation would be 18,900 MWh.

The proposed Point Marion Lock and Dam Hydroelectric Project would be located at RM 90.8 and consist of the following new facilities: (1) A 280-foot-long, 90-foot-wide intake channel directing flow to a 30-foot-long, 50-foot-high, 70-foot-wide intake structure with 3-inch bar spacing trashracks; (2) a 120-foot-long, 60-foot-high, 70-foot-wide reinforced concrete powerhouse on the east bank of the river; (3) two turbine-generator units with a combined capacity of 5.0 MW; (4) a 215-foot-long, 90-foot-wide tailrace; (5) a 40-foot-long by 40-foot-wide substation; (6) a 3,320-foot-long, 69-kV, overhead transmission line to connect the project substation to an existing substation; and (7) appurtenant facilities. The average annual generation would be 16,500 MWh.

The proposed Grays Landing Lock and Dam Hydroelectric Project would be located at RM 82.0 and consist of the following new facilities: (1) A 300-foot-long, 130-foot-wide intake channel directing flow to a 100-foot-long, 84-foot-wide intake structure with 3-inch bar spacing trashracks; (2) a 576-foot-long, 2.5-foot-high adjustable crest gate on top of the existing dam crest; (3) a 150-foot-long, 75-foot-high, 90-foot-wide reinforced concrete powerhouse on the west bank of the river; (4) two turbine-generator units with a combined capacity of 12.0 MW; (5) a 250-foot-long, 84-foot-wide tailrace; (6) a 40-foot-long by 40-foot-wide substation; (7) a 9,965-foot-long, 69-kV, overhead transmission line to connect the project substation to an existing distribution line; and (8) appurtenant facilities. The average annual generation would be 47,300 MWh.

The proposed Maxwell Lock and Dam Hydroelectric Project would be located at RM 61.2 and consist of the following new facilities: (1) A 130-foot-long, 85-foot-wide intake channel located immediately downstream of the Corps' 5th spillway gate on the east side of the river; (2) a pair of spill gates totaling 84 feet wide located within the proposed intake channel; (3) a 100-foot-long, 70-foot-high, 85-foot-wide intake structure with 3-inch bar spacing trashracks; (4) a 150-foot-long, 70-foot-high, 90-foot-wide reinforced concrete powerhouse; (5) two turbine-generator units with a combined capacity of 13.0 MW; (6) a 160-foot-long, 120-foot-wide tailrace; (7) a 40-foot-long by 40-foot-wide substation; (8) a 350-foot-long, 69/138 kV, overhead transmission line to connect the project substation to an existing distribution line; and (9) appurtenant facilities. The average annual generation would be 56,800 MWh.

The proposed Monongahela Lock and Dam Number Four Hydroelectric Project would be located at RM 41.5 and consist of the following new facilities: (1) A 140-foot-long, 90-foot-wide intake channel located immediately downstream of the Corps' 5th spillway gate on the west side of the river; (2) a pair of spill gates totaling 84 feet wide located within the proposed intake channel; (3) a 100-foot-long, 64-foot-high, 90-foot-wide intake structure with 3-inch bar spacing trashracks; (4) a 150-foot-long, 70-foot-high, 90-foot-wide reinforced concrete powerhouse; (5) two turbine-generator units with a combined capacity of 12.0 MW; (6) a 210-foot-long, 130-foot-wide tailrace; (7) a 40-foot-long by 40-foot-wide substation; (8) a 45-foot-long, 69-kV, overhead transmission line to connect the project substation to an existing distribution line; and (9) appurtenant facilities. The average annual generation would be 48,500 MWh.

Free Flow Power proposes to operate all six projects in a “run-of-river” mode using flows made available by the Corps. The proposed projects would not change existing flow releases or water surface elevations upstream or downstream of the proposed projects.

m. A copy of each application is available for review at the Commission in the Public Reference Room or may be viewed on the Commission's Web site at http://www.ferc.gov using the “eLibrary” link. Enter the docket number excluding the last three digits in the docket number field to access the document. For assistance, contact FERC Online Support. Copies are also available for inspection and reproduction at the address in item h above.

You may also register online at http://www.ferc.gov/docs-filing/esubscription.asp to be notified via email of new filings and issuances related to these or other pending projects. For assistance, contact FERC Online Support.

n. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline for the particular application.

When the applications are ready for environmental analysis, the Commission will issue a public notice requesting comments, recommendations, terms and conditions, or prescriptions.

All filings must (1) bear in all capital letters the title “PROTEST” or “MOTION TO INTERVENE,” “NOTICE OF INTENT TO FILE COMPETING APPLICATION,” or “COMPETING APPLICATION;” (2) set forth in the heading the name of the applicant and the project number of the application to which the filing responds; (3) furnish the name, address, and telephone number of the person protesting or intervening; and (4) otherwise comply with the requirements of 18 CFR 385.2001 through 385.2005. Agencies may obtain copies of the applications directly from the applicant. A copy of any protest or motion to intervene must be served upon each representative of the applicant specified in the particular application.

Dated: July 18, 2014.
Kimberly D. Bose,
Secretary.

[FR Doc. 2014-17758 Filed 7-28-14; 8:45 am]

BILLING CODE 6717-01-P